DEPARTMENT OF ENERGY

Federal Energy Regulatory Commission

[Docket No. RM02-16-000]

Hydroelectric Licensing Regulations Under the Federal Power Act; Notice of Post-Notice of Proposed Rulemaking Regional Workshops and Post-Workshop Drafting Session

February 4, 2003.

After the Federal Energy Regulatory Commission (Commission) issues its Notice of Proposed Rulemaking (NOPR) for a new hydroelectric licensing process, Commission staff will host regional stakeholder workshops and conduct a post-workshop stakeholder drafting session.

Both the regional stakeholder workshops and the post-workshop stakeholder drafting session are not intended to address issues pending in individually docketed hydropower cases before the Commission. Therefore, all participants are requested to address the agenda topics and avoid discussing the merits of individual proceedings.

Post-NOPR Regional Stakeholder Workshops

Five, two-day regional stakeholder workshops, and the one, one-day workshop will be held in the cities and on the dates and times listed in the following table. With the exception of the one-day workshop in Washington, DC, each two-day regional stakeholder workshop provides separate days for tribal and public attendance, although anyone may attend either or both of the workshops. Specific details regarding the structure and procedures for the regional stakeholder workshops will be posted on the Commission's Web site by February 27, 2003.

Location | Date/Time
Portland, Oregon Doubletree Hotel Columbia River 1401 N. Hayden Island Drive (503) 283-2111 | Public: March 13, 2003, 9 am—4 pm Tribes: March 14, 2003, 9 am—4 pm
Sacramento, California Red Lion Hotel Sacramento 1401 Arden Way (916) 922-8041 | Tribes: March 24, 2003, 9 am—4 pm Public: March 25, 2003, 9 am—4 pm
Charlotte, North Carolina Marriott Charlotte City Center 100 West Trade Street (704) 333-9000 | Public: March 27, 2003, 9 am—4 pm Tribes: March 28, 2003, 9 am—4 pm
Manchester, New Hampshire Holiday Inn Center of New Hampshire 700 Elm Street (603) 625-1000 | Tribes: March 31, 2003 9 am—4 pm Public: April 1, 2003, 9 am—4 pm
Milwaukee, Wisconsin Hyatt Regency Milwaukee 333 West Kilbourn Avenue (414) 276-1234 | Public: April 3, 2003, 9 am—4 pm Tribes: April 4, 2003, 9 am—4 pm
Washington, DC Federal Energy Regulatory Commission 888 First Street, NE Washington, DC 20426 | April 10, 2003, 9 am—4 pm

The goals of the post-NOPR regional stakeholder workshops are for Commission staff to: (1) Hear and consider stakeholder concerns about proposed rule language; and (2) find avenues for stakeholder consensus on solutions to those concerns. All interested persons are invited to attend these workshops.

Post-Workshop Stakeholder Drafting Session

A four-day post-workshop stakeholder drafting session will be held on April 29 and 30, and May 1 and 2, 2003., at 888 First Street, NE., Washington, DC.

The goal of the four-day post-workshop stakeholder drafting session is to develop proposed final rulemaking language. In addition to a full group discussion at the beginning of the first post-workshop drafting day, and at other appropriate times to be decided, participants will again be asked to take part in one of several drafting groups. Specific details regarding the time and location for the drafting session, as well as the subject matter and structure of the full group discussion, and drafting groups will be determined after the last regional workshop on April 10, and posted on the Commission's Web site soon thereafter.

All interested persons are invited to participate in the drafting session, and will need to pre-register on-line at http://www.ferc.gov /hydro/hydro2.htm, between April 18, and April 25, 2003.. Anyone without access to the web will need to pre-register by contacting Susan Tseng at (202) 502-6065. In both pre-registration procedures, participants must indicate their preference for a particular drafting group.

Obtaining Transcripts of the Regional Stakeholder Workshops, and Opportunities for Listening and Viewing the April 10, 2003, Workshop from Offsite

The Capitol Connection offers the opportunity for remote listening and viewing of the April 10, 2003, regional stakeholder workshop held in Washington, DC, which is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

The regional stakeholder workshops will be transcribed. Those interested in obtaining a copy of the transcript immediately for a fee should contact Ace-Federal Reporters, Inc. at (202) 347-3700, or (800) 336-6646. Two weeks after each regional workshop, the transcript will be available for free on the Commission's FERRIS system.

Anyone without access to the Commission's Web site and who have questions about the regional stakeholder workshops, and post-workshop stakeholder drafting session should contact Tim Welch at (202) 502-8760, or e-mail timothy.welch@ferc.gov.

Magalie R. Salas,
Secretary.

[FR Doc. 03-3145 Filed 2-7-03; 8:45 am]

BILLING CODE 6717-01-P